DEPARTMENT OF TRANSPORTATION

Federal Highway Administration

Notice of Final Federal Agency Actions on a Proposed U.S. Highway Project in California

AGENCY: Federal Highway Administration (FHWA), DOT.

ACTION: Notice of Limitation on Claims for Judicial Review of Actions by FHWA and other Federal agencies.

SUMMARY: This notice announces actions taken by the FHWA and other Federal agencies that are final within the meaning of 23 U.S.C. 139(l)(1). These actions relate to the proposed highway project to its current four lanes to six lanes by adding one HOV lane in each direction from the Old Redwood Highway Interchange, KP 12.1 (postmile 7.5), to the Rohnert Park Expressway Interchange at KP 22.4 (postmile 13.9) on the Sonoma 101 Highway in Sonoma County in the State of California.

DATES: By this notice, the FHWA is advising the public of final agency actions subject to 23 U.S.C. 139 (l)(1). A claim seeking judicial review of the Federal agency actions on the project will be barred unless the claim is filed on or before September 9, 2008. If the Federal law that authorizes judicial review of a claim provides a time period of less than 180 days for filing such a claim, then that shorter time period still applies.

FOR FURTHER INFORMATION CONTACT: Melanie Brent, Chief, Office of Environmental Analysis, 510-286-5231, melanie.brent@dot.ca.gov.

SUPPLEMENTARY INFORMATION: Effective July 1, 2007, the Federal Highway Administration (FHWA) assigned, and the California Department of Transportation (Caltrans) assumed environmental responsibilities for this project pursuant to 23 U.S.C. 327. Caltrans prepared an Environmental Assessment on a proposal for a highway high occupancy vehicle (HOV) lanes and improvements project in Sonoma County, California.

The Sonoma 101 HOV Lanes Widening (Central) Improvements Project would alleviate traffic congestion and delays and improve safety and operations in Sonoma County, California. This would be accomplished by providing an HOV lane in both the north and south directions.

The anticipated permits include: Section 7 Incidental Take Statement for the California tiger salamander (from the U.S. Fish and Wildlife Service) under the Federal Endangered Species Act) 401 Water Quality Certification (from the Regional Water Quality Control Board) under Section 401 of the Clean Water Act) and a 404 Individual Permit (from the U.S. Army Corps of Engineers) under Section 404 of the Clean Water Act).

A public meeting was held at Cotati City Hall on August 8, 2006. The Environmental Assessment, Finding of No Significant Impact, which was approved on August 30, 2007 and other documents are available for public and agency review at the Caltrans address provided above.

(Catalog of Federal Domestic Assistance Program Number 20.205, Highway Planning and Construction. The regulations implementing Executive Order 12372 regarding intergovernmental consultation on Federal programs and activities apply to this program.)

This notice applies to all Federal agency decisions as of the issuance date of this notice and all laws under which such actions were taken, including but not limited to:

General: National Environmental Policy Act (NEPA) [42 U.S.C. 4321-4351]; Federal Aid-Highway Act [23 U.S.C. 109].

Land: Landscape and Scenic Enhancement (Wildflowers) [23 U.S.C. 219].

Air: Clean Air Act 42 U.S.C. 7401-7671(q).

Wildlife: Endangered Species Act [16 U.S.C. 1531-1544 and section 1536], Fish and Wildlife Coordination Act [16 U.S.C. 661-667(d)], Migratory Bird Treaty Act [16 U.S.C. 703-712]. Section 4(f) of the U.S. Department of Transportation Act of 1966 [49 U.S.C. 303].

Historic and Cultural Resources: Section 106 of the National Historic Preservation Act of 1966, as amended [16 U.S.C. 470(aa)-11]; Archeological Resources Protection Act of 1977 [16 U.S.C. 470(aa)-11]; Archeological and Historic Preservation Act [16 U.S.C. 469-469(c)]; Native American Grave Protection and Repatriation Act (NAGPRA) [25 U.S.C. 3001-3013].

Social and Economic: Civil Rights Act of 1964 [42 U.S.C. 2000(d)-2000(d)(1)]; American Indian Religious Freedom Act [42 U.S.C. 1996]; Farmland Protection Policy Act (FPPA) [7 U.S.C. 4201-4209]; The Uniform Relocation Assistance Act and Real Property Acquisition Policies Act of 1970, as amended.

Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

[Catalog of Federal Domestic Assistance Program Number 20.205, Highway Planning and Construction. The regulations implementing Executive Order 12372 regarding intergovernmental consultation on Federal programs and activities apply to this program.]

Authority: 23 U.S.C. 139(l)(1).

Issued on: March 6, 2008
Nancy E. Bobb,
Director, State Programs.

[FR Doc. E8-5020 Filed 3-12-08; 8:45 am]

BILLING CODE 4910-RY-P